DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: National Cybersecurity Center of Excellence (NCCoE) Participant Letter(s) of Interest (LoI).

OMB Control Number: #0693-0075.

Form Number(s): None.

Type of Request: Regular submission (revision and extension of a currently approved information collection.

Number of Respondents: 120.

Average Hours per Response: 2 hours per response.

Burden Hours: 240 Hours.

Needs and Uses: New collaborative projects to address specific cybersecurity challenges. Technology providers having an interest in participating in an announced project are invited to submit Letters of Interest (LoI) in participation. NIST provides a LoI template to technology providers that express a desire to participate in a project.

Affected Public: Business or other for profit.

Frequency: Once per announcement.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer.

[FR Doc. 2018-24263 Filed 11-5-18; 8:45 am]

BILLING CODE 3510-13-P